COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List a product and services to be furnished by nonprofit agencies employing persons who are blind or have other severe disabilities.

EFFECTIVE DATE: June 16, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly. (703) 603-7740.

SUPPLEMENTARY INFORMATION: On October 12, and December 21, 2001, and January 25, March 8, and March 22, 2002, the Committee for Purchase From People Who Are Blind or Severely Disabled published notice (66 FR 52094 and 65876, and 67 FR 3683, 10663, and 13309) of proposed additions to the Procurement List.

After consideration of the material presented to it concerning capability of qualified nonprofit agencies to provide the product and services and impact of the additions on the current or most recent contractors, the Committee has determined that the products and services listed below are suitable for procurement by the Federal Government under 41 U.S.C. 46-48c and 41 CFR ­51-2.4. I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

Accordingly, the following product and services are added to the Procurement List:

Product

Product/NSN: Battery, Nonrechargeable/6135-01-333-6737

NPA: Eastern Carolina Vocational Center, Inc., Greenville, NC.

Contract Activity: Defense Supply Center—Richmond, Richmond, VA.

Services

Service Type/Location: Administrative Service Milwaukee Federal Building and U.S. Courthouse, Milwaukee, WI.

NPA: Milwaukee Center for Independence, Inc., Milwaukee, WI.

Contract Activity: GSA, Public Buildings Service.

Service Type/Location: Base Supply Center/Peterson AFB, CO.

NPA: Envision, Inc., Wichita, KS.

Contract Activity: Peterson AFB CO.

Service Type/Location: BSC, IEE & HAZMAT, Eglin AFB, FL.

NPA: L.C. Industries For The Blind, Inc., Durham, NC.

Contract Activity: Department of the Air Force.

Service Type/Location: Janitorial/Custodial, Naval and Marine Corps Reserve Centers, Alameda, CA.

NPA: The Independent Way, Oakland, CA.

Contract Activity: Naval Facilities Engineering Command-Concord, Concord, CA.

Service Type/Location: Janitorial/Custodial, Environmental Protection Agency (Western Ecology Division), Corvallis,

OR.

NPA: Williamette Valley Rehabilitation Center, Inc., Lebanon, OR.

Contract Activity: Environmental Protection Agency.

This action does not affect current contracts awarded prior to the effective date of this addition or options that may be exercised under those contracts.

Sheryl D. Kennerly,
Director, Information Management.

[FR Doc. 02-12434 Filed 5-16-02; 8:45 am]

BILLING CODE 6353-01-P